DEPARTMENT OF COMMERCE

National Oceanic and Atmospheric Administration

Mission-Aransas, Texas National Estuarine Research Reserve Management Plan Revision; Notice of Public Comment Period

AGENCY: Stewardship Division, Office for Coastal Management, National Ocean Service, National Oceanic and Atmospheric Administration, U.S. Department of Commerce.

ACTION: Notice.

SUMMARY: Notice is hereby given that the Stewardship Division, Office for Coastal Management, National Ocean Service, National Oceanic and Atmospheric Administration, U.S. Department of Commerce is announcing a thirty day public comment period for the Mission-Aransas, Texas National Estuarine Research Reserve Management Plan revision. Pursuant to 15 CFR 921.33(c), the revised plan will bring the reserve into compliance. The Mission-Aransas Reserve revised plan will replace the plan approved in 2006.

The revised management plan outlines the administrative structure; the research/monitoring, stewardship, education, and training programs of the reserve; and the plans for future land acquisition and facility development to support reserve operations.

The Mission-Aransas Reserve takes an integrated approach to management, linking research, education, coastal training, and stewardship functions. The Reserve has outlined how it will manage administration and its core program providing detailed actions that will enable it to accomplish specific goals and objectives. Since the last management plan, the Reserve has built out its core programs and monitoring infrastructure; constructed several facilities including a L.E.E.D. certified Estuarine Research Center that serves as the reserve headquarters and includes laboratories, offices, classrooms, interpretative areas and dormitories; and built new partnerships with organizations along the Coastal Bend of Texas.

With the approval of this management plan, the Mission-Aransas Reserve will increase their total acreage from 185,708 acres to 186,189. The change is attributable to the recent acquisitions of several parcels by Reserve partners, totaling 481 acres. All of the proposed additions are owned by existing Reserve partners and will be managed for long-term protection and conservation value. These parcels have high ecological value and will enhance the Reserve's ability to provide increased opportunities for research, education, and stewardship. The revised management plan will serve as the guiding document for the expanded 186,189 acre Mission-Aransas Reserve for the next five years.

View the Mission-Aransas, Texas Reserve Management Plan revision at (https://sites.cns.utexas.edu/manerr/about/management-plan) and provide comments to (Jace.Tunnell@austin.utexas.edu).

FOR FURTHER INFORMATION CONTACT: Matt Chasse at (301) 563-1198 or Erica Seiden at (301) 563-1172 of NOAA's National Ocean Service, Stewardship Division, Office for Coastal Management, 1305 East-West Highway, N/ORM5, 10th Floor, Silver Spring, MD 20910.

Dated: September 23, 2015.
John King,
Deputy Director, Office for Coastal Management, National Ocean Service, National Oceanic and Atmospheric Administration.

[FR Doc. 2015-25090 Filed 9-30-15; 8:45 am]

BILLING CODE 3510-08-P